DEPARTMENT OF TRANSPORTATION

National Highway Traffic Safety Administration

[Docket No. NHTSA-2016-0093; Notice 2]

General Motors, LLC, Grant of Petition for Decision of Inconsequential Noncompliance

AGENCY: National Highway Traffic Safety Administration (NHTSA), Department of Transportation (DOT).

ACTION: Grant of petition.

SUMMARY: General Motors, LLC (GM), has determined that certain model year (MY) 2016-2017 Cadillac CTS, CT6, XTS and Escalade motor vehicles do not fully comply with Federal Motor Vehicle Safety Standard (FMVSS) No. 135, Light Vehicle Brake Systems. GM filed a defect report dated August 17, 2016. GM then petitioned NHTSA on August 22, 2016, for a decision that the subject noncompliance is inconsequential as it relates to motor vehicle safety.

ADDRESSES: For further information on this decision contact Stu Seigel, Office of Vehicle Safety Compliance, the National Highway Traffic Safety Administration (NHTSA), telephone (202) 366-5287, facsimile (202) 366-3081.

SUPPLEMENTARY INFORMATION:

I. Overview

General Motors, LLC (GM), has determined that certain model year (MY) 2016-2017 Cadillac CTS, CT6, XTS and Escalade motor vehicles do not fully comply with paragraph S5.5.5(a) of Federal Motor Vehicle Safety Standard (FMVSS) No. 135, Light Vehicle Brake Systems. GM filed a defect report dated August 17, 2016, pursuant to 49 CFR part 573, Defect and Noncompliance Responsibility and Reports. GM then petitioned NHTSA on August 22, 2016, pursuant to 49 U.S.C. 30118(d) and 30120(h) and their implementing regulations at 49 CFR part 556, for an exemption from the notification and remedy requirements of 49 U.S.C. Chapter 301 on the basis that this noncompliance is inconsequential as it relates to motor vehicle safety.

Notice of receipt of the petition was published, with a 30-day public comment period, on September 29, 2016, in the Federal Register (81 FR 67057). No comments were received. To view the petition and all supporting documents log onto the Federal Docket Management System (FDMS) Web site at: https://www.regulations.gov/. Then follow the online search instructions to locate docket number “NHTSA-2016-0093.”

II. Vehicles Involved

Affected are 46,205 of the following MY 2016-2017 Cadillac motor vehicles manufactured between March 10, 2015, and June 13, 2016.

• Cadillac CT6

• Cadillac CTS

• Cadillac Escalade

• Cadillac Escalade ESV

• Cadillac XTS

III. Noncompliance

GM explains that the noncompliance is that when the parking brake is applied on the subject vehicles the indicator light that illuminates within the cluster does not meet the lettering height requirements as specified in paragraph S5.5.5(a) of FMVSS No. 135 and also referenced in table 1; column 1, of FMVSS No. 101. Specifically, the lettering height for the indicator on the subject vehicles is 2.44 mm when it should be a minimum height of 3.2 mm.

IV. Rule Text

Paragraph S5.5.5(a) of FMVSS No. 135 states, in pertinent part:

S5.5.5 Labeling. (a) Each visual indicator shall display a word or words in accordance with the requirements of Standard No. 101 (49 CFR 571.101) and this section, which shall be legible to the driver under all daytime and nighttime conditions when activated. Unless otherwise specified, the words shall have letters not less than 3.2 mm (⅛ inch) high and the letters and background shall be of contrasting colors, one of which is red . . .

V. Summary of GM's Petition

GM described the subject noncompliance and stated its belief that the noncompliance is inconsequential as it relates to motor vehicle safety.

In support of its petition, GM submitted the following reasoning:

(a) The park brake applied telltale (identified by the word “PARK”) is red in color contrasted against a black screen, as required by S5.5.5(a) and (d)(4), conspicuously located and readily visible at the top left-of-center position of the instrument panel cluster. Additionally, the four letters of the word “PARK” are all capitalized such that the 2.44 mm height is preserved across the width of the word.

(b) In addition to the park brake applied telltale required by FMVSS No. 135, all of the affected vehicles also have a driver information center (DIC) message “Park Brake Set” that illuminates when the parking brake is applied. The lettering height of this DIC message is 3.24 mm, greater than the 3.2 mm minimum specified for visual indicators in FMVSS No. 135. The DIC message is also substantially wider than the typical width of the telltale required by the standard. The redundant telltale and the DIC message, assure ample communication to the driver that the parking brake is applied.

(c) The operation and performance of the park brake itself is unaffected by this telltale condition. The park brake complies with all applicable requirements of FMVSS No. 135.

(d) The NHTSA has previously granted inconsequential treatment for labeling issues across various motor vehicle safety standards, including for discrepancies involving lettering height, missing information, incorrect information, and misplaced or obscured information. For example, two comparable petitions for inconsequential treatment involving brake telltale lettering height were granted to Kia and Hyundai (reference Docket numbers “NHTSA-2004-17439”, Notice 2 and “NHTSA-2004-17439” (sic), Notice 2, published in the Federal Register on July 8, 2004, and July 9, 2004, respectively). The Kia petition cited multiple previous petitions for inconsequential treatment for brake telltale noncompliance granted by NHTSA, and we ask to incorporate them here by reference.

(e) After searching VOQ, TREAD and internal GM databases, GM is not aware of any crashes, injuries, or customer complaints associated with this condition.

(f) GM has corrected this condition in production. All vehicles produced after June 13, 2016, comply with the telltale lettering height specified in FMVSS No. 135.

GM concluded by expressing the belief that the subject noncompliance is inconsequential as it relates to motor vehicle safety, and that its petition to be exempted from providing notification of the noncompliance, as required by 49 U.S.C. 30118, and a remedy for the noncompliance, as required by 49 U.S.C. 30120, should be granted.

NHTSA'S Decision

NHTSA's Analysis: NHTSA has reviewed GM's analysis that the subject noncompliance is inconsequential to motor vehicle safety. Specifically, the lettering height for the park brake applied indicator “Park” at 2.44 mm versus the FMVSS No. 135 requirement of 3.2 mm poses little if any risk to motor vehicle safety. This decision is based on the following:

1. The subject vehicles appear to meet all of the other parking brake indicator labeling requirements as specified in S5.5.5 of FMVSS No. 135. If a separate indicator is provided for application of the parking brake, the single word “Park” or the words “Parking Brake” may be used. GM has opted to comply with this section by use of the single word “PARK” and has capitalized all four letters of the word providing a more pronounced indicator. The indicator used is legible to the driver under all daytime and nighttime conditions when activated. The indicator is conspicuously located in the top left-of-center position on the instrument panel which is in front of and in clear view of the driver. The “Park” indicator is red in color when illuminated and has a black contrasting background. All of these required features help ensure that the indicator can be seen and recognized by the driver when illuminated.

2. The affected vehicles are equipped with a driver information center which is located in the instrument cluster and adjacent to the speedometer, in direct view of the driver. When the parking brake is applied, the FMVSS No. 135 required “PARK” indicator is illuminated. Simultaneously, in addition to the “PARK” indicator, the information center provides a message that the parking brake is activated with the wording “Park Brake Set.” GM stated that the height of this message is 3.24 mm and is substantially wider than the typical width of the required indicators. Illumination of both the “PARK” indicator combined with the information center statement “Park Brake Set” provides ample communication to the driver that the parking brake has been applied.

NHTSA'S Decision: In consideration of the foregoing, NHTSA decided that GM has met its burden of persuasion that the FMVSS No. 135 noncompliance in the affected vehicles is inconsequential to motor vehicle safety. Accordingly, GM's petition is hereby granted and GM is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that GM no longer controlled at the time it determined that the noncompliance existed. However, the granting of this petition does not relieve vehicle distributors and dealers of the prohibitions on the sale, offer for sale, or introduction or delivery for introduction into interstate commerce of the noncompliant vehicles under their control after GM notified them that the subject noncompliance existed.

Authority (49 U.S.C. 30118, 30120: Delegations of authority at 49 CFR 1.95 and 501.8)

Jeffrey M. Giuseppe,
Director, Office of Vehicle Safety Compliance.

[FR Doc. 2016-30578 Filed 12-19-16; 8:45 am]

BILLING CODE 4910-59-P